DEPARTMENT OF JUSTICE

Notice of Settlement Agreement Under the Park System Resources Protection Act

Under 28 CFR 50.7, notice is hereby given of a proposed settlement agreement, In Re: NTS/Virginia Development Corporation, for the recovery of damages by the Department of the Interior (“DOI”), under the Park System Resources Protection Act, 16 U.S.C. 19jj.

The proposed settlement agreement resolves claims against NTS/Virginia Development Corporation with respect to certain Civil War era earthworks that are part of the Fredericksburg and Spotsylvania National Military Park, a unit of the National Park System, in Spotsylvania County, Virginia. DOI alleges that in an “Incident” on or about July 11, 2001, a maintenance worker employed by NTS/Virginia drove a small tracked BobCat over the earthworks, creating ruts and damaging the earthworks.

Under the proposed settlement agreement, NTS/Virginia will pay $88,351 for costs and damages. In exchange, DOI will provide a covenant not to sue NTS/Virginia for the incident. DOI intends to use a portion of the settlement funds to define, through accepted archaeological methodology, the scope and condition of Wilderness Cemetery No. 2, and would use at least $30,821 of the settlement funds to further develop and complete certain interpretive trail facilities along the Orange Plank Corridor in the Wilderness Battlefield.

The Department of Justice will receive, for a period of thirty (j30) days from the date of this publication, comments relating to the proposed settlement agreement. Comments should be addressed to the Assistant Attorney General, Environment and Natural Resources Division, P.O. Box 7611, U.S. Department of Justice, Washington, DC 20044-7611, and should refer to In Re: NTS/Virginia Development Corporation, DOJ Ref. #90-5-1-1-08788.

During the public comment period, the proposed settlement agreement may be examined on the following Department of Justice Web site: http://www.usdoj.gov/enrd/open.html. A copy of the proposed settlement agreement may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 512-1547. In requesting a copy from the Consent Decree Library, please enclose a check in the amount of $1.75 (25 cents per page reproduction cost) payable to the U.S. Treasury, to obtain a copy of the settlement agreement.

Robert Brook,
Assistant Section Chief, Environmental Enforcement Section, Environment and Natural Resources Division.

[FR Doc. 06-2512 Filed 3-14-06; 8:45 am]

BILLING CODE 4410-15-M